DEPARTMENT OF TRANSPORTATION

Federal Motor Carrier Safety Administration

[Docket No. FMCSA-2024-0307]

Commercial Driver's License: Application for Exemption; Bianco Trucking Services, LLC d.b.a. CDL and Operator Training

AGENCY: Federal Motor Carrier Safety Administration (FMCSA), Department of Transportation (DOT).

ACTION: Notice of final disposition; denial of application for exemption.

SUMMARY: FMCSA announces its decision to deny the application from Bianco Trucking Services, LLC d.b.a. CDL and Operator Training (“Bianco”) for an exemption to allow students between the ages of 18 and 20 holding a “K” restricted commercial learners permit (CLP) issued by another State to attend its driver training facility in Michigan. FMCSA analyzed the application and public comments and determined that granting the exemption would not likely achieve a level of safety that is equivalent to, or greater than, the level that would be achieved absent such exemption.

FOR FURTHER INFORMATION CONTACT: Mr. Richard Clemente, FMCSA Driver and Carrier Operations Division; Office of Carrier, Driver and Vehicle Safety Standards; 202-366-2722; richard.clemente@dot.gov. If you have questions on viewing or submitting material to the docket, contact Dockets Operations at (202) 366-9826.

SUPPLEMENTARY INFORMATION:

I. Public Participation

Viewing Comments and Documents

To view any documents mentioned as being available in the docket, go to https://www.regulations.gov/docket/FMCSA-2024-0307/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard in U.S.C 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Drivers of commercial motor vehicles (CMVs), as defined in 390.5T, engaged in interstate commerce, must be at least 21 years of age, 49 CFR 391.11(b)(1). CLP holders who are younger than age 21 may drive in intrastate commerce only. Under 49 CFR 383.153(b)(2)(ix)(G), CLPs issued to drivers under the age of 21 must be marked with a “K” restriction limiting the driver to intrastate operations in the driver's State of domicile.

Applicant's Request

Bianco's application for exemption was described in detail in a Federal Register notice on January 15, 2025, (90 FR 3990) and will not be repeated as the facts have not changed.

IV. Public Comments

On January 15, 2025, FMCSA requested public comment on Bianco's application for an exemption [90 FR 3990]. The Agency received one comment from AWM Associates, LLC (AWM) that opposed granting the exemption. AWM stated, “The application presents an unfair economic advantage over other CDL schools. The FMCSA should deny the request as there's not a “K” restriction in Part 383.95, the “K” restriction is a Wisconsin state law based on 391.11(b)(1).”

In response to AWM's comment, Bianco stated, “Part 383.95 was referenced for this exemption as it relates to the restrictions that can be placed on a CDL after issuance, similar to an air-brake restriction or a fifth-wheel restriction . . .” Bianco continued, “Part 391.11 is in regard to drivers who operate a CMV in interstate operations as defined in part 391.1(a) and 391.1(b). As the students are not getting financially compensated to operate these vehicles for the school in question, they would not fall under that regulation.” Bianco concluded, “With Entry Level Driver Training being a requirement by the FMCSA, regardless of the driver's state of residence, potential students should have the opportunity to attend programs that are registered with the Training Provider Registry that fits them best. This could be geographically, economically, or personal preference.”

V. FMCSA Decision

FMCSA has evaluated Bianco's application and the public comments and denies the exemption request. On December 9, 2024, the Agency denied a similar exemption request from 3 North LLC, (89 FR 97702). In that decision, the Agency agreed with the American Association of Motor Vehicle Administrators that allowing drivers with a “K” restriction to operate in States other than their State of domicile would disrupt and confuse each State's use of the “K” restriction. The same reasoning applies to Bianco's request for an exemption. Furthermore, based on information provided by the applicant, FMCSA is unable to determine that the applicant would likely achieve a level of safety equivalent to, or greater than, the level obtained by complying with the regulations.

For the reasons stated, the Bianco exemption application is denied.

Sue Lawless,
Assistant Administrator.

[FR Doc. 2025-14126 Filed 7-25-25; 8:45 am]

BILLING CODE 4910-EX-P